FEDERAL COMMUNICATIONS COMMISSION

[CC Docket No. 92-237; DA 03-61]

Next Meeting of the North American Numbering Council

AGENCY: Federal Communications Commission.

ACTION: Notice.

SUMMARY: On January 13, 2003, the Commission released a public notice announcing the January 22, 2003 meeting and agenda of the North American Numbering Council (NANC). The intended effect of this action is to make the public aware of the NANC's next meeting and its agenda.

DATES: Wednesday, January 22, 2003 at 9 a.m.

ADDRESSES: Requests to make an oral statement or provide written comments to the NANC should be sent to Deborah Blue. Telecommunications Access Policy Division, Wireline Competition Bureau, Federal Communications Commission, The Portals II, 445 12th Street, SW., Suite 5-A420, Washington, DC 20554.

FOR FURTHER INFORMATION CONTACT: Deborah Blue, Special Assistant to the Designated Federal Officer (DFO) at (202) 418-1466 or dblue@fcc.gov. The fax number is: (202) 418-2345. The TTY number is: (202) 418-0484.

SUPPLEMENTARY INFORMATION: This is a summary of the Commission's Public Notice, CC Docket No. 92-237, released on January 13, 2003. The North American Numbering Council (NANC) has scheduled a meeting to be held Wednesday, January 22, 2003, from 9 a.m. until 5 p.m. The meeting will be held at the Federal Communications Commission, Portals II, 445 12th Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Wednesday, January 22, 2003 9 a.m.

1. Announcements and Recent News

2. Approval of Minutes

—Meeting of November 19, 2002

3. Report of the North American Numbering Plan Administrator (NANPA)

—State of NANP resources

—NANPA activity

4. Report of National Thousands Block Pooling Administrator

—Activity report

—Optional pooling implementation

—Connecticut UNP trial

5. Report of Oversight Working Group

—Review of Change Orders

—PAS “workaround”

—2002 Performance Survey

—Performance Improvement Plan

6. Report of NANP Expansion/Optimization IMG

—Transmittal of Final Report to FCC

—Monitoring in future

7. Report of Intermediate Numbering/Soft Dial Tone IMG

8. Status of Industry Numbering Committee activities

9. Report of the Local Number Portability Administration (LNPA) Working Group

—Wireless Number Portability Operations (WNPO) Subcommittee

10. Report from NBANC

11. Report of Cost Recovery Working Group

12. Report of E-Conferencing Working Group

13. Presentation by VoIP provider (Vonage) regarding use of numbers

14. Steering Committee

—Table of NANC Projects

15. Report of Steering Committee

16. Summary of Action Items

17. Public Comments and Participation (5 minutes per speaker)

18. Other Business

Adjourn no later than 5 p.m.

Next Meeting: Wednesday, March 19, 2003.

Federal Communications Commission.
Cheryl L. Callahan,
Assistant Chief, Telecommunications Access Policy Division, Wireline Competition Bureau.

[FR Doc. 03-1095 Filed 1-15-03; 8:45 am]

BILLING CODE 6712-01-P